DEPARTMENT OF HOMELAND SECURITY

Transportation Security Administration

Notice of Intent To Request Approval From the Office of Management and Budget (OMB) for Three Public Collections of Information; Aviation Security Customer Satisfaction Performance Measurement Data Collection Instruments

AGENCY: Transportation Security Administration (TSA), DHS.

ACTION: Notice.

SUMMARY: TSA invites public comment on three new information collection requirements abstracted below that will be submitted to OMB for approval in compliance with the Paperwork Reduction Act.

DATES: Send your comments by July 22, 2003.

ADDRESSES: Comments may be mailed or delivered to Yani Collins, Office of Strategic Management and Analysis; Transportation Security Administration Headquarters; West Tower, Suite 1045N; 400 Seventh Street, SW.; Washington, DC 20590-0001.

FOR FURTHER INFORMATION CONTACT: Yani Collins at the above address or by telephone (571) 227-1620; facsimile (571) 227-1927; or e-mail yani.collins@dhs.gov.

SUPPLEMENTARY INFORMATION: In accordance with the Paperwork Reduction Act of 1995 (44 U.S.C. 3501 et seq.), a Federal government agency may not conduct or sponsor, and a person is not required to respond to, a collection of information unless it displays a valid OMB control number. Therefore, in preparation for submission to obtain clearance of the following information collection, TSA solicits comments in order to:

(1) Evaluate whether the proposed information requirement is necessary for the proper performance of TSA functions, including whether the information will have practical utility;

(2) Evaluate the accuracy of TSA's estimate of the burden on those who are to respond;

(3) Enhance the quality, utility, and clarity of the information to be collected; and

(4) Minimize the burden of the collection of information on those who are to respond, including through the use of appropriate automated, electronic, mechanical, or other technological collection techniques or other forms of information technology where appropriate.

Purpose of Data Collection

In its effort to provide world-class customer service as it provides world-class security, the Transportation Security Administration seeks to administer three instruments to collect data on the satisfaction of passengers who experience TSA's aviation passenger and baggage security processes. TSA intends for the instruments to be consistent across all airports to maximize the utility and customer-friendliness of the data collection efforts. TSA will use the data collected from these instruments to continuously improve security and customer service.

Description of Data Collection

TSA intends to collect data via the following instruments:

(1) Statistically Valid Intercept Surveys. TSA intends to conduct a statistically valid passenger survey at commercial airports nationwide. The survey will be administered using an intercept methodology, in which passengers will be handed survey forms soon after they experience TSA's aviation security functions and be invited to mail the form back. Passengers who receive surveys will be selected randomly such that the sample of passengers that receive surveys at each airport over the survey period is representative of all passenger demographics—including passengers who travel on weekdays or weekends; those who travel in the morning, mid-day, or evening; those who pass through each of the different security screening locations at the airport; those who are subject to more intensive screening of their baggage or person; and those who experience different volume conditions and wait times as they proceed through the security checkpoint. The surveys will also be representative of passenger identity factors such as gender, frequency of travel, and purpose of the trip as business or leisure.

Participation by passengers will be voluntary. TSA Headquarters will supply independent administrators to each site to distribute the survey forms. The administrators will not be TSA employees and will handle the forms and data independently of TSA to ensure the validity of the results, as well as be subject to quality assurance and monitoring from TSA Headquarters. The form will include up to ten questions about aspects of the passenger experience plus approximately four demographic questions.

Dates, times, and screening locations will be chosen within each airport in order to provide a statistically valid representation of customer satisfaction over the survey period. TSA intends to conduct up to two surveys annually, each with a target of 500 returned forms, at each of the major airports that are TSA hubs (which are defined to be Category X, I, and II hub airports, up to 119 in all). We estimate an annual total of 119,000 respondents (2 surveys per airport × 119 airports × 500 returned forms per survey) and, based on an estimate of a five-minute burden per respondent, a maximum total annual burden system-wide of 9,917 hours. There will be no burden on passengers who choose not to respond.

(2) Informal Surveys Conducted by Airport Staff. TSA staff at individual airports also wish to conduct informal surveys to collect performance data for improved customer service throughout the year, most often to test passenger response to service improvements implemented in response to identified service problems. The results of these surveys will not generally be as statistically rigorous as the intercept survey described above, but will be subject to guidance from TSA Headquarters regarding respondent selection, survey distribution frequency, and the handling of the completed forms. Therefore, the results will not be used for any formal performance measurement nor published outside of TSA, but will be valid to enable localized service improvements at each airport. Participation by passengers will be voluntary. TSA Headquarters will provide a list of approximately 25 approved questions, from which airports may select a subset, and a Headquarters-designed and -approved template for the survey form.

Surveys will be conducted at the discretion of the TSA airport staff, subject to a limit (as imposed by TSA Headquarters and pending approval of the Office of Management and Budget) of a five-minute burden per respondent and an aggregate burden of 100 hours per airport per year. Assuming that all 119 major hub airports and half of the 310 smaller airports (or 155 in all) employ this process, aggregate systemwide burden will not exceed 27,400 hours per year. There will be no burden on passengers who choose not to respond.

(3) Complaints and Compliments at the Point of Service. In response to passenger requests to provide customer-initiated feedback right at the point of service, TSA also intends to make available to airports a Customer Comment Form, which will collect open-ended feedback and, if the passenger desires, contact information so that TSA staff can respond to the passenger's comment. TSA Headquarters will design the form and make it available to airports. Airports will distribute it upon request to passengers who indicate that they wish to make a formal complaint, compliment, or other comment.

TSA airport staff will collect the forms back from passengers, categorize comments, enter the results into an on-line system for storage and reporting, and respond to passengers as necessary. We will also provide an e-mail address, phone number, and mailing address for passengers to return the forms to either airports or TSA Headquarters. TSA may consider adding a postage-paid business reply frank to the cards so that they can be returned to TSA at the passenger's convenience and at no cost to them. TSA will also continue to provide mechanisms on its web site and the TSA Contact Center for passengers to make comments independently of airport involvement.

Based on the number of comments that have been made at the airports and reported to TSA Headquarters via the Performance Measurement Information System through the first quarter of Calendar Year 2003, total projected volume is approximately 25,200 comments per year systemwide. Assuming an average burden of 10 minutes per comment per passenger who chooses to make one, total burden is estimated to be 4,200 hours annually.

Use of Results

TSA Headquarters and individual airports will use all of these results to evaluate and improve customer service, both via formal, rigorous performance measurement and via targeted responses to problem areas identified at individual sites. These data collection efforts will have no impact on non-TSA airport administration staff, although TSA may seek to partner with airport management at some sites to share relevant data with one another. Results of the Statistically Valid Intercept Surveys (1) and Complaints and Compliments at the Point of Service (3) will be used, along with other inputs, to create a Customer Satisfaction Index for Aviation Operations (CSI-A), a key TSA performance measure. TSA will use both the CSI-A and other customer-oriented performance measures to evaluate the impact of policy or process changes on customer satisfaction and public confidence.

Issued in Arlington, Virginia, on May 15, 2003.
Susan T. Tracey,
Deputy Chief Administrative Officer.

[FR Doc. 03-12776 Filed 5-22-03; 8:45 am]

BILLING CODE 4910-62-P